DEPARTMENT OF THE INTERIOR

National Park Service

National Register of Historic Places; Notification of Pending Nominations and Related Actions

Nominations for the following properties being considered for listing or related actions in the National Register were received by the National Park Service before November 17, 2007. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St., NW., 8th floor, Washington, DC 20005; or by fax, 202-371-6447. Written or faxed comments should be submitted by December 19, 2007.

J. Paul Loether,
Chief, National Register of Historic Places/National Historic Landmarks Program.

ARIZONA

Maricopa County

Railroad Steam Wrecking Crane and Tool Car, 330 E. Ryan Rd., Chandler, 07001301.

ARKANSAS

Sharp County

Camp Miramichee, 38 Riverview Cir., Hardy, 07001302.

CALIFORNIA

Los Angeles County

Old Pasadena Historic District, Fair Oaks & Raymond Aves., Colorado Blvd., Green St., Pasadena, 07001303.

Pisgah Home Historic District, 6026-6044 Echo St. & 6051 A-D Hayes St., Los Angeles, 07001304.

COLORADO

Otero County

Adobe Stables, Arkansas Valley Fairgrounds, (New Deal Resources on Colorado's Eastern Plains MPS) 800 N. 9th St., Rocky Ford, 07001305.

Phillips County

Phillips County Courthouse, (New Deal Resources on Colorado's Eastern Plains MPS). 221 Interocean Ave., Holyoke, 07001306.

GEORGIA

Bacon County

Bacon County School, 504 N. Pierce St., Alma, 07001307.

INDIANA

Monroe County

University Courts Historic District, Roughly bounded by 7th St., Indiana Ave., 10th St. & Woodlawn Ave., Bloomington, 07001308.

MARYLAND

Anne Arundel County

First Avenue School, 13 SW 1st Ave., Glen Burnie, 07001309.

Richland, 195 Harwood Rd., Harwood, 07001310.

Baltimore Independent City, Polish Home Hall, 4416 Fairhaven Ave., Baltimore (Independent City), 07001311.

MASSACHUSETTS

Franklin County

South School, 6 Schoolhouse Rd., Schutesbury, 07001312.

MINNESOTA

Hennepin County

Eitel Hospital, 1367 Willow St., Minneapolis, 07001313.

Pence Automobile Company Building, 800 Hennepin Ave., Minneapolis, 07001314.

Ramsey County

Riverside Hangar, 690 Bayfield St., Bldg. 690-01-01, St. Paul, 07001315.

St. Louis County

Listening Point, 3128 Listening Point Rd., Ely, 07001316.

Washington County

Log Cabin, 15021 60th St. N., Oak Park Heights, 07001317.

Stillwater Overlook, (Federal Relief Construction in Minnesota MPS), Lookout Trail near 63rd St. N., Oak Park Heights, 07001318.

MISSOURI

Dunklin County

Ely and Walker Shirt Factory No. 5, 221 S. Main St., Kennett, 07001319.

Jackson County

Walnut Street Warehouse and Commercial Historic District (Boundary Increase), 1612, 1616, 1620 & 1624 Grand Blvd. & 1705-07 & 1709 Walnut St., Kansas City, 07001320.

NEBRASKA

Buffalo County

Bartlett, John J. and Lenora, House, 1402 9th Ave., Kearney, 07001321.

Douglas County

Omaha Star, The, 2216 N. 24th St., Omaha, 07001322.

Platte County

Stenger, Albert and Lina, House, 815 Lovers Ln., Columbus, 07001323.

Scotts Bluff County

Saddle Club, 2000 W. Overland, Scottsbluff, 07001324.

Sherman County

Loup City Township Carnegie Library, (Carnegie Libraries in Nebraska MPS), 652 N St., Loup City, 07001326.

Wayne County

Wayne United States Post Office, 120 Pearl St., Wayne, 07001325.

PENNSYLVANIA

Allegheny County

Try Street Terminal, 600-620 2nd Ave., Pittsburgh, 07001327.

Philadelphia County

Budd, Edward G., Manufacturing Company, 2450 W. Hunting Park Rd., Philadelphia, 07001328.

WISCONSIN

Grant County

Boscobel Grand Army of the Republic Hall, 102 Mary St., Boscobel, 07001329.

Jackson County

Black River Falls Public Library, (Public Library Facilities of Wisconsin MPS), 321 Main St., Black River Falls, 07001330.

Milwaukee County

Spencerian Business College, 2800 W. Wright St., Milwaukee, 07001331.

A request for REMOVAL has been made for the following resource:

COLORADO

Denver County

Beierle Farm, (Denver International Airport MPS), Hudson Rd. just N. of Irondale Rd. Watkins, 92001673.

A request to MOVE has been made for the following resource:

OREGON

Multnomah County

U.S.S. LCI-713 (Landing craft), 1401 N. Hayden Island Dr., Portland, 070003000.

[FR Doc. E7-23423 Filed 12-3-07; 8:45 am]

BILLING CODE 4310-70-P